DEPARTMENT OF ENERGY

Federal Energy Regulatory Commission

[Docket Nos. CP99-580-002 and CP99-582-003]

Southern LNG Inc.; Notice of Petition to Amend

August 24, 2000.

Take notice that on August 15, 2000, Southern LNG Inc. (Southern LNG), 1900 Fifth Avenue North, P.O. Box 2563, Birmingham, Alabama 35202-2563, filed an application pursuant to section 7(c) of the Natural Gas Act (NGA) for limited amendment to the Order Issuing Certificate, section 3 Authorization, And Denying Request For Rehearing issued in this proceeding on March 16, 2000.¹ Southern LNG requests the Commission's authorization for limited modifications to the sendout system (Sendout Modification) at the liquefied natural gas (LNG) import terminal on Elba Island, in Chatham County, Georgia (Elba Island Terminal). The Sendout Modification will increase the peak vaporization capacity from 540 Mmcf/d to 675 Mmcf/d.

¹ On April 17, 2000, Southern LNG filed a motion for clarification of the authorization in the March 16, 2000 order in Docket No. CP99-579-002 which is being considered in conjunction with this petition to amend.

Copies of this filing are on file with the Commission and are available for public inspection. The application may be viewed on the web at www.ferc.fed.us/online/rims.htm (Call (202) 208-2222 for assistance). Any questions regarding the application may be directed to Patrick B. Pope, General Counsel, P.O. Box 2563, Birmingham, Alabama 35202-2563, (205) 325-7126.

The Sendout Modification is required to enhance the flexibility and reliability of firm service at Elba Island Terminal, because it will enable the terminal to receive LNG from various sources. El Paso Merchant Energy-Gas, Ltd. (Merchant Energy), which holds the capacity at Elba Island Terminal, now anticipates importing LNG purchased from Enron Americas LNG Company, in addition to Point Fortin LNG Exports Ltd., with supplies coming from various foreign production areas. The Sendout Modification will not alter the marine transfer or storage systems at the Elba Island Terminal. Southern LNG proposes the following modifications to the sendout system:

• Remove five existing Ryan Industries LNG vaporizers with capacity of 108 Mmcf/d each, having submerged combustion, six-burner configuration and replacing these existing units with five state-of-the-art, natural gas-fired vaporizers with high efficiency, single burner configuration and submerged combustion water bath heaters. The new vaporizers will provide a sendout rate of up to 135 Mmcf/d per unit. In addition, Southern LNG will install a spare secondary LNG pump and associated transfer piping.

• Installing facilities to control a heating value of vaporized LNG delivered at the tailgate of the Elba Island Terminal. The imported LNG cargoes may have varying heating values, some of which may exceed the maximum in Southern LNG's tariff of 1,075 Btu per standard cubic foot (scf). Therefore, Southern LNG has developed two design alternatives for Btu stabilization facilities: (1) Injection of 2% Nitrogen into the Sendout Stream which will allow receipt of approximately 1,090 Btu/scf, and (2) injection of 3.8% air which will allow receipt of approximately 1,117 Btu/scf. Southern LNG will propose a final design for Btu stabilization after further progress in the on-going discussions with downstream shippers.

The Sendout Modification will not involve any greenfield construction. The construction will be confined to an onshore area within previously disturbed and currently maintained property owned by Southern LNG and addressed in the environmental assessment (EA) and March 16, 2000 order.

Southern LNG states that no subsidy from the existing customers exists in this proposal. Southern LNG proposes to roll the cost of the Sendout Modification into initial rates approved in the March 16, 2000 order. The rolled-in rate treatment allocates 100% of the cost to Merchant Energy, who holds 100% of the capacity.

The estimates of the capital cost for the Sendout Modification is $32,698,837 using air injection, and $42,197,710 using nitrogen injection, with the decision on the method to be made after further discussions. The cost and rate design effects of these two options are shown in Exhibit P of the amendment.

Any person desiring to be heard or to make any protest with reference to said application should on or before September 14, 2000, file with the Energy Regulatory Commission, 888 First Street, NE., Washington, DC 20426, a motion to intervene or a protest in accordance with the requirements of the Commission's Rules of Practice and Procedure (18 CFR 385.214 and 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to the proceeding or to participate as a party in any hearing therein must file a motion to intervene in accordance with the Commission's Rules.

A person obtaining intervener status will be placed on the service list maintained by the Secretary of the Commission and will receive copies of all documents issued by the Commission, filed by the applicant, or filed by all other interveners. An intervener can file for rehearing of any Commission order and can petition for court review of any such order. However, an intervener must serve copies of comments or any other filing it makes with the Commission to every other intervener in the proceeding, as well as filing an original and 14 copies with the Commission.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court. The Commission will consider all comments and concerns equally, whether filed by comments or those requesting intervener status.

Take further notice that, pursuant to the authority contained in and subject to the jurisdiction conferred upon, the Federal Energy Regulatory Commission by sections 7 and 15 of the Natural Gas Act, as amended, and the Commission's Rules of Practice and Procedure, a hearing will be held without further notice before the Commission on this Application if no motion to intervene is filed within the time required herein, if the Commission on its own review of the matter finds a grant of the requested authorization is required by the public convenience and necessity. If a motion for leave to intervene is timely filed, or if the Commission on its own believes that a formal hearing is required, further notice of such hearing will be duly given.

Under the procedure herein provided for, unless otherwise advised, it will be unnecessary for Southern LNG to appear or to be represented at the hearing.

Linwood A. Watson, Jr.,
Acting Secretary.

[FR Doc. 00-22100 Filed 8-29-00; 8:45 am]

BILLING CODE 6717-01-M